DEPARTMENT OF EDUCATION

[Catalog of Federal Domestic Assistance (CFDA) Number: 84.144F]

Migrant Education Program (MEP) Consortium Incentive Grants Program; Correction

AGENCY: Office of Elementary and Secondary Education, Department of Education.

ACTION: Notice; correction.

SUMMARY: On February 5, 2015, we published a notice in the Federal Register (80 FR 6502) inviting applications for new awards for fiscal year (FY) 2015 for the MEP Consortium Incentive Grants program. This notice corrects the “Deadline for Intergovernmental Review” date.

DATES: Effective February 13, 2015.

FOR FURTHER INFORMATION CONTACT: Rachel Crawford, U.S. Department of Education, 400 Maryland Ave. SW., Room 3E-319, Washington, DC 20202-6135. Telephone: (202) 260-2590 or by email: Rachel.Crawford@ed.gov. If you use a telecommunications device for the deaf or a text telephone, call the Federal Relay Service, toll free, at 1-800-877-8339.

SUPPLEMENTARY INFORMATION:

Corrections

In the Federal Register of February 5, 2015 (80 FR 6502), on page 6502, in the third column, under the DATES heading, we correct the “Deadline for Intergovernmental Review” caption to read:

Deadline for Intergovernmental Review: June 19, 2015.

On page 6504, in the first column, we correct the “Deadline for Intergovernmental Review” caption to read:

Deadline for Intergovernmental Review: June 19, 2015.

All other information in the February 5, 2015, notice remains unchanged.

Accessible Format: Individuals with disabilities can obtain a copy of the application package in an accessible format (e.g., braille, large print, audiotape, or compact disc) by contacting the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Dated: February 10, 2015.
Deborah Delisle,
Assistant Secretary for Elementary and Secondary Education.

[FR Doc. 2015-03065 Filed 2-12-15; 8:45 am]

BILLING CODE 4000-01-P